DEPARTMENT OF LABOR

Employment and Training Administration

[TA-W-51,652]

Plastene Supply Co., Plant 1, Division of Siegel Robert, Inc., Portageville, MO; Notice of Negative Determination Regarding Application for Reconsideration

By application of June 14, 2003, petitioners requested administrative reconsideration of the Department's negative determination regarding eligibility to apply for Trade Adjustment Assistance (TAA), applicable to workers and former workers of the subject firm. The denial notice was signed on June 6, 2003, and published in the Federal Register on June 19, 2003 (68 FR 36846).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Plastene Supply Co., Plant 1, Division of Siegel Robert, Inc., Portageville, Missouri was denied because the “contributed importantly” group eligibility requirement of Section 222(3) of the Trade Act of 1974, as amended, was not met and production did not shift to a foreign source. The subject firm shifted production to another domestic source.

In the reconsideration request, the petitioners state that other products were produced at the subject facility other than the “automotive nameplates” cited in the negative determination.

The negative determination was based on data received by the company regarding sales totals of all products at the subject facility. This data indicates that there was a direct domestic shift from the Portageville plant to another company owned plant in Farmington, Missouri. Totals of collective sales of competitive products from these two plants over the relevant period of this investigation indicate that there were no declines in domestic production.

The petitioners further allege that the subject firm served as a “downstream producer” because “many parts were shipped to Canada or Mexico”.

The initial negative determination was issued on the basis of a primary investigation; no specific trade certified customers were indicated either in the initial petition or the reconsideration request. Further, in order to be eligible as secondary “downstream producers”, the subject facility would have to assemble or finish products from primary firm production that was the basis for a trade adjustment assistance certification. There is no indication that subject firm production served this purpose.

Conclusion

After review of the application and investigative findings, I conclude that there has been no error or misinterpretation of the law or of the facts which would justify reconsideration of the Department of Labor's prior decision. Accordingly, the application is denied.

Signed at Washington, DC this 17th day of October, 2003.
Elliott S. Kushner,
Certifying Officer, Division of Trade Adjustment Assistance.

[FR Doc. 03-29265 Filed 11-21-03; 8:45 am]

BILLING CODE 4510-30-P